GENERAL SERVICES ADMINISTRATION

[Notice: 2011-OGP-2; Docket 2011-0006; Sequence 7]

Discontinuance of the Looseleaf Version of the Federal Management Regulation (FMR) and Federal Travel Regulation (FTR)

AGENCY: Office of Governmentwide Policy, General Services Administration (GSA).

ACTION: Notice.

SUMMARY: As part of GSA's effort to increase efficiency and reduce and attain the goal of zero environmental impact (ZEF), the Office of Governmentwide Policy (OGP) has determined that it will no longer produce the looseleaf version of the Federal Management Regulation (FMR) and the Federal Travel Regulation (FTR).

DATES: This notice is effective April 25, 2011.

FOR FURTHER INFORMATION CONTACT: For clarification of content, contact Michael Hopkins, Office of Governmentwide Policy, at (202) 208-4421.

SUPPLEMENTARY INFORMATION:

A. Background

Looseleaf pages of the FMR and the FTR were originally made available at a time when it was the only means to view a change to either regulation in context with the existing text until the publication of the next volume of Title 41 of the Code of Regulations (41 CFR title 41) was published the following July 1. Patrons who maintained the regulations in looseleaf could purchase subscriptions from the Government Printing Office (GPO) and when any change to the FMR or FTR occurred, they would be sent the new pages. At best, it could be weeks and even months before patrons would receive the latest changes. With the coming of new technology, GSA began producing these pages and sending them to patrons electronically.

Because of today's technologies, those who follow the FMR and FTR can view and print the latest changes on the day the changes are published in the Federal Register. Through the years, GSA continued to produce the looseleaf pages for these changes although the need for them has become almost nonexistent. GSA has come to the conclusion that the time that it takes to produce the pages for information already available is not an efficient use of government resources and has decided to discontinue the production of the looseleaf versions of the FMR and FTR immediately. In addition, printing updated pages for those maintaining looseleaf binders of the regulations will no longer be necessary and this supports GSA's goal of a zero environmental footprint.

B. Procedures

The FMR and related documents can be found at http://www.gsa.gov/fmr. The FTR and related documents can be found at http://www.gsa.gov/fmr. In addition to the Federal Register's web page (http://www.archives.gov/federal-register) you can access the Electronic Code of Regulations (eCFR) through the GPO Web site at http://ecfr.gpoaccess.gov.

Dated: April 19, 2011.
Kathleen M. Turco,
Associate Administrator, General Services Administration.

[FR Doc. 2011-9959 Filed 4-22-11; 8:45 am]

BILLING CODE 6820-14-P